DEPARTMENT OF HEALTH AND HUMAN SERVICES

Centers for Disease Control and Prevention

[60Day-20-0020; Docket No. CDC-2019-0109]

Proposed Data Collection Submitted for Public Comment and Recommendations

AGENCY: Centers for Disease Control and Prevention (CDC), Department of Health and Human Services (HHS).

ACTION: Notice with comment period; Withdrawal.

SUMMARY: The Centers for Disease Control and Prevention (CDC) in the Department of Health and Human Services (HHS) announces the withdrawal of the notice published under the same title on December 6, 2019 for public comment.

DATES: December 12, 2019.

FOR FURTHER INFORMATION CONTACT: Information Collection Review Office, Centers for Disease Control and Prevention, 1600 Clifton Road NE, MS-D74, Atlanta, Georgia 30329; phone: 404-639-7570; Email: omb@cdc.gov.

SUPPLEMENTARY INFORMATION: On December 6, 2019 CDC published a notice in the Federal Register titled “Proposed Data Collection Submitted for Public Comment and Recommendations” (84 FR 66902). This notice with Federal Register Document 2019-26370 and Docket number CDC-2019-0109, was published prematurely and inadvertently. The notice is being withdrawn immediately for public comment. A new notice will be published at a later date for public comment.

Jeffrey M. Zirger,
Lead, Information Collection Review Office, Office of Scientific Integrity, Office of Science, Centers for Disease Control and Prevention.

[FR Doc. 2019-26692 Filed 12-11-19; 8:45 am]

BILLING CODE 4163-18-P